DEPARTMENT OF ENERGY

Southeastern Power Administration

Jim Woodruff Project

AGENCY: Southeastern Power Administration, DOE.

ACTION: Notice of proposed rate adjustment.

SUMMARY: Southeastern proposes a new rate schedule JW-1-K to replace Wholesale Power Rate Schedules JW-1-J for a five-year period from October 1, 2016, to September 30, 2021. Rate schedule JW-1-K would be applicable to Southeastern power sold to existing preference customers in the Duke Energy Florida (formerly Florida Power Corporation) service area. In addition, Southeastern proposes to extend Wholesale Power Rate Schedules JW-2-F, applicable to Duke Energy Florida to September 30, 2021.

DATES: Written comments are due on or before June 29, 2016. A public information and public comment forum will be held at 12:00 Noon, Thursday, May 5, 2016. Persons desiring to speak at the forum are requested to notify Southeastern at least seven (7) days before the forum is scheduled so that a list of forum participants can be prepared. Others present may speak if time permits. Persons desiring to attend the forum should also notify Southeastern at least seven (7) days before the forum is scheduled. If Southeastern has not been notified by close of business on April 28, 2016, that at least one person intends to be present at the forum, the forum may be canceled with no further notice.

ADDRESSES: Written comments should be submitted to: Kenneth E. Legg, Administrator, Southeastern Power Administration, Department of Energy, 1166 Athens Tech Road, Elberton, Georgia 30635-6711. The public comment forum will meet at the Jim Woodruff Project Site Managers Office Conference Room, 2382 Boosterclub Road, Chattahoochee, FL 32324, Phone (229) 662-2001.

FOR FURTHER INFORMATION CONTACT: Virgil G. Hobbs III, Southeastern Power Administration, Department of Energy, 1166 Athens Tech Road, Elberton, Georgia 30635-6711, Phone (706) 213-3800.

SUPPLEMENTARY INFORMATION: Existing rate schedules are supported by a June 2011 Repayment Study and other supporting data contained in FERC Docket No. EF11-12-000. A repayment study prepared in January 2016 shows that the existing rates are adequate to meet repayment criteria and generate a surplus. Southeastern is proposing a rate reduction to eliminate this surplus. A revised study with a revenue reduction of $2,316,000 per year demonstrates the rates are adequate to meet repayment criteria. The rate adjustment is a reduction of about 24 percent.

In the proposed rate schedule JW-1-K, which is available to preference customers, the capacity charge would be reduced from $10.29 per kilowatt per month to $7.74 per kilowatt per month. The energy charge would be reduced from 26.51 mills per kilowatt-hour to 20.44 mills per kilowatt-hour. Rate schedule JW-2-F, available to Duke Energy Florida (DEF), would continue the current rate of 100 percent of DEF's fuel cost.

In addition to the capacity and energy charges, each preference customer will continue to be charged for power purchased by Southeastern on behalf of the preference customer. This pass-through will continue to be computed as described in the current rate schedules, with the modification that the billing cycle conforms to the calendar month. Previously, the billing cycle occurred on the 20th of each month.

The proposed rate schedules are available for examination at 1166 Athens Tech Road, Elberton, Georgia, 30635-6711, as is the January 2016 repayment study.

Dated: March 28, 2016.
Kenneth E. Legg,
Administrator.

[FR Doc. 2016-07289 Filed 3-30-16; 8:45 am]

BILLING CODE 6450-01-P